DEPARTMENT OF ENERGY

Golden Field Office; State Energy Efficiency and Renewable Energy Activities

AGENCY: U.S. Department of Energy.

ACTION: Notice of Solicitation for Competitive Financial Assistance Applications.

SUMMARY: The U.S. Department of Energy (DOE) is announcing a competitive solicitation, DE-PS36-01GO90012, for applications for cooperative agreements with States to pursue energy efficiency and renewable energy activities which include, but are not limited to conducting or managing: (1) Resource, technology, and marketing assessments, program evaluation and management; (2) Equipment loan programs; (3) Workshops, conferences, or stakeholder meetings; (4) On-site technology evaluations, economic and feasibility studies for site specific technologies, environmental analysis of projects and actions to overcome developmental barriers to Energy Efficiency and Renewable Energy (EERE) energy technologies; (5) Brochures, manuals, publications, web-based outreach, video presentations, fact sheets, press releases; (6) Media events, marketing and promotional events, exhibit booths, distribution of materials; (7) Demonstration projects and state-level stakeholder coordination.

DATES: The solicitation will be issued in May 2001. The formal solicitation document, which includes greater detail on application instructions, due dates and evaluation criteria, will be available on the Golden Field Office website.

ADDRESSES: To obtain a copy of the solicitation once it is issued, interested parties must access the DOE Golden Field Office Home Page at http://www.golden.doe.gov/businessopportunities.html, click on “Solicitations.” And then locate the solicitation number identified above. DOE does not intend to issue written copies of the solicitation.

FOR FURTHER INFORMATION CONTACT: Matthew Barron, Contracting Officer, DOE Golden Field Office, 1617 Cole Boulevard, Golden, CO 80401-3393 or facsimile to (303) 275-4788, or electronically to matt_barron@nrel.gov. Responses to questions will be made by Amendment and posted on the DOE Golden Field Office Home Page.

SUPPLEMENTARY INFORMATION: The objective of this solicitation is to award cooperative agreements to State Energy Offices that will support deploying projects under the following DOE energy technology initiatives (this list of EERE programs is not all inclusive): (1) Wind Energy; (2) Geothermal Energy; (3) Biomass Energy; (4) Distributed Energy Resources (DER); (5) Solar Energy; (6) Community Energy Partnerships; (7) Federal Energy Management; (8) Residential Energy Savings Program; (9) Alternative Transportation Fuels Program; (10) Industrial Energy Program.

Proposals will be subject to the objective merit review procedures for the Office of Energy Efficiency and Renewable Energy. Eligibility for this assistance is restricted to Governor-designated State Energy Offices. For individual projects subsequently awarded, selected applicants may enter teaming or partnership agreements with industry, DOE national laboratories, institutions of higher education, non-profit organizations and Native American organizations.

Issued in Golden, Colorado, on May 22, 2001.
Jerry L. Zimmer,
Director, Office of Acquisition and Financial Assistance.

[FR Doc. 01-13746 Filed 5-31-01; 8:45 am]

BILLING CODE 6450-01-P